NATIONAL FOUNDATION ON THE ARTS AND THE HUMANITIES

Institute of Museum and Library Services

Notice of Proposed Information Collection Request: Public Libraries Survey FY 2021-FY 2023

AGENCY: Institute of Museum and Library Services.

ACTION: Submission for OMB review, comment request.

SUMMARY: The Institute of Museum and Library Services announces the following information collection has been submitted to the Office of Management and Budget (OMB) for review and approval in accordance with the Paperwork Reduction Act. This program helps to ensure that requested data can be provided in the desired format, reporting burden (time and financial resources) is minimized, collection instruments are clearly understood, and the impact of collection requirements on respondents can be properly assessed. By this Notice, IMLS is soliciting comments concerning the new three-year approval of the IMLS administered Public Libraries Survey. A copy of the proposed information collection request can be obtained by contacting the individual listed below in the FOR FURTHER INFORMATION CONTACT section of this Notice.

DATES: Written comments must be submitted to the office listed in the ADDRESSES section below on or before October 28, 2021.

ADDRESSES: Written comments and recommendations for proposed information collection requests should be sent within 30 days of publication of this Notice to www.reginfo.gov/public/do/PRAMain. Find this particular information collection request by selecting “Institute of Museum and Library Services” under “Currently Under Review;” then check “Only Show ICR for Public Comment” checkbox. Once you have found this information collection request, select “Comment,” and enter or upload your comment and information. Alternatively, please mail your written comments to Office of Information and Regulatory Affairs, Attn.: OMB Desk Officer for Education, Office of Management and Budget, Room 10235, Washington, DC 20503, (202) 395-7316.

OMB is particularly interested in comments that help the agency to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including the use of appropriate automated, electronic, mechanical, or other technological collection techniques or other forms of information technology (e.g., permitting electronic submission of responses).

FOR FURTHER INFORMATION CONTACT: Connie Bodner, Ph.D., Director, Office of Grants Policy and Management, Institute of Museum and Library Services, 955 L'Enfant Plaza North SW, Suite 4000, Washington, DC 20024-2135. Dr. Bodner can be reached by Telephone: 202-653-4636, or by email at cbodner@imls.gov. Persons who are deaf or hard of hearing (TTY users) can contact IMLS at 202-207-7858 via 711 for TTY-Based Telecommunications Relay Service.

SUPPLEMENTARY INFORMATION:

I. Background

The Institute of Museum and Library Services is the primary source of federal support for the nation's libraries and museums. We advance, support, and empower America's museums, libraries, and related organizations through grant making, research, and policy development. To learn more, visit www.imls.gov.

II. Current Actions

Pursuant to Public Law 107-279, this Public Libraries Survey collects annual descriptive data on the universe of public libraries in the United States and the Outlying Areas. Information such as public service hours per year, circulation of library books, number of librarians, population of legal service area, expenditures for library collection, programs for children and young adults, staff salary data, and access to technology would be collected. The request includes new public library data regarding programs and other physical collections. The Public Libraries Survey has been conducted by the Institute of Museum and Library Services under the clearance number 3137-0074, which expires September 30, 2023. This action is to request a new three-year approval. The 60-day Notice was published in the Federal Register on June 25, 2021 (86 FR 33782). The agency received one comment in response to the Notice.

Agency: Institute of Museum and Library Services.

Title: Public Libraries Survey, FY 2021-FY 2023.

OMB Number: 3137-0074.

Agency Number: 3137.

Affected Public: State and local governments, State library administrative agencies, and public libraries.

Number of Respondents: 56.

Frequency: Annually.

Burden Hours per Respondent: 94.1.

Total burden hours: 5,270.

Total Annualized capital/startup costs: n/a.

Total Annual Costs: $154,104.73.

Total Annual Federal Costs: $726,187.85.

Dated: September 23, 2021.
Kim Miller,
Senior Grants Management Specialist, Institute of Museum and Library Services.

[FR Doc. 2021-21086 Filed 9-27-21; 8:45 am]

BILLING CODE 7036-01-P